NATIONAL ARCHIVES AND RECORDS ADMINISTRATION

[NARA-2014-021]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 1, 2014. Once the appraisal of the records is completed, NARA will send a copy of the schedule. NARA staff usually prepare appraisal memoranda that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year, Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless specified otherwise. An item in a schedule is media-neutral when the disposition instructions may be applied to records regardless of the medium in which the records are created and maintained. Items included in schedules submitted to NARA on or after December 17, 2007, are media-neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending: 1. Department of Commerce, Economic Development Administration (DAA-0378-2014-0006, 2 items, 1 temporary item). Routine working papers of the Office of Chief Counsel. Proposed for permanent retention are high-level correspondence and legal opinions.

2. Department of Commerce, Economic Development Administration (DAA-0378-2014-0008, 2 items, 2 temporary items). Administrative briefings and economic assessment records of the Office of Regional Affairs.

3. Department of Commerce, Economic Development Administration (DAA-0378-2014-0010, 3 items, 3 temporary items). Records of the Trade Adjustment Assistance for Firms program, including certification case files, cooperative agreement files, and periodic reports.

4. Department of Commerce, Economic Development Administration (DAA-0378-2014-0014, 2 items, 2 temporary items). Records relating to the creation, maintenance, and content of the agency Web site.

5. Department of Defense, National Security Agency (N1-457-14-2, 1 item, 1 temporary item). Material safety data sheets.

6. Department of the Treasury, Internal Revenue Service (N1-58-10-15, 17 items, 9 temporary items). Records of the Taxpayer Advocate Service, including working copies of correspondence, reports, studies, and planning files; and calendars, reading files, and administrative management records. Proposed for permanent retention are records that establish policies, practices and programs; and special project and study files, speeches, subject files of senior management, and significant reports.

7. Department of the Treasury, Internal Revenue Service (DAA-0058-2014-0005, 2 items, 2 temporary items). Records used to identify and monitor tax preparer compliance and to determine penalties for fraud.

8. Administrative Office of the United States Courts, United States Bankruptcy Courts (DAA-0578-2013-0002, 11 items, 11 temporary items). Records of the Bankruptcy Administration Program, including financial records, routine audit records, periodic reports, and audio recordings which document oversight of the Trustee Program.

9. Commodity Futures Trading Commission, Agency-wide (N1-180-12-1, 4 items, 4 temporary items). Records related to employee compensation, benefits, and awards.

10. Consumer Financial Protection Bureau, Consumer Education and Engagement (N1-587-12-14, 15 items, 12 temporary items). Records of the Office of Servicemember Affairs, including research records, conference files, education and awareness files, and administrative records. Proposed for permanent retention are final reports and historic publication and event files.

11. Consumer Financial Protection Bureau, Consumer Education and Engagement (N1-587-12-16, 17 items, 12 temporary items). Records of the Office of Financial Education, including trend analysis records, conference files, and administrative records. Proposed for permanent retention are final reports, decision memorandums, and historic publication and event files.

12. Consumer Financial Protection Bureau, Consumer Education and Engagement (N1-587-12-17, 7 items, 5 temporary items). Records of the Office of Consumer Engagement, including feedback files and survey results. Proposed for permanent retention are final reports and historic event files.

13. Court Services and Offender Supervision Agency for the District of Columbia, Pretrial Services Agency (DAA-0562-2013-0027, 1 item, 1 temporary item). Master files of an electronic information system used to assess substance abuse by defendants.

14. Court Services and Offender Supervision Agency for the District of Columbia, Pretrial Services Agency (DAA-0562-2013-0028, 1 item, 1 temporary item). Records used to document health and safety incidents in facilities and work areas.

15. Office of Personnel Management, Human Resource Solutions (DAA-0478-2012-0006, 1 item, 1 temporary item). Master files of an electronic information system used to manage testing for government employment.

16. Peace Corps, Overseas Posts (N1-490-12-3, 14 items, 14 temporary items). Administrative records of the country directors including newsletters, post updates, personnel request and activity records, meeting minutes, communication files, and training records.

17. Peace Corps, Overseas Posts (N1-490-12-5, 9 items, 9 temporary items). Safety and security records including emergency action plans, safety guidance, and investigative files.

18. Peace Corps, Overseas Posts (N1-490-12-6, 10 items, 10 temporary items). Programming and training records including project files, correspondence files, training records, and volunteer handbooks.

Dated: March 24, 2014.
Paul M. Wester, Jr.,
Chief Records Officer for the U.S. Government.

[FR Doc. 2014-07164 Filed 3-31-14; 8:45 am]

BILLING CODE 7515-01-P